DEPARTMENT OF HEALTH AND HUMAN SERVICES

National Institutes of Health

National Institute of Child Health and Human Development Submission for OMB Review; Comment Request; NEXT Generation Health Study; Correction Notice

SUMMARY: The National Institutes of Health is publishing this notice again to correct the errant data that appeared in Table 1 and Table 2 of the notice, as previously published in the Federal Register, September 24, 2009 (74 FR 48747-48749). The data in Table 1 and Table 2 of this notice are correct.

Under the provisions of section 3507(a)(1)(D) of the Paperwork Reduction Act of 1995, the National Institute of Child Health and Human Development (NICHD), the National Institutes of Health (NIH) has submitted to the Office of Management and Budget (OMB) a request for review and approval of the information collection listed below. This proposed information collection was previously published in the Federal Register on July 17, 2009, Volume 74, Number 136, pages 34760-34761 and allowed 60-days for public comment. Two public comments were received. One questioned the value of this study and suggested that the study could not possibly be completed within the stated cost estimates. We have always conducted extremely efficient studies within stated cost estimates. The value of this research is demonstrated by the involvement of multiple government agencies. The second e-mail simply expressed interest in more information. The purpose of this notice is to allow an additional 30 days for public comment. The National Institutes of Health may not conduct or sponsor, and the respondent is not required to respond to, an information collection that has been extended, revised, or implemented on or after October 1, 1995, unless it displays a currently valid OMB control number.

Proposed Collection

Title: NEXT Generation Health Study.

Type of Information Collection Request: New.

Need and Use of Information Collection: The goal of this research is to obtain data on adolescent health and health behaviors annually for four years beginning in the 2009-2010 school year from a national probability sample of adolescents. This information will enable the improvement of health services and programs for youth. The study will provide needed information about the health of U.S. adolescents.

The study will collect information on adolescent health behaviors and social and environmental contexts for these behaviors annually for four years beginning in the 2009-2010 school year. Self-report of health status, health behaviors, and health attitudes will be collected by in-school and online surveys. Anthropometric data, genetic information, and neighborhood characteristics will be gathered on all participants as well. The study will also incorporate a School Administrator Survey and other data files to obtain related information on school-level health programs and community-level contextual data. A representative subsample of overweight and normal weight adolescents will be identified and additional data on behavioral risk factors and biological markers and risk factors will be gathered on these adolescents.

Table 1—Annual Burden for Affected Public: School-Age Children, Parents and School Administrators
Type of respondents | Estimated number of respondents | Estimated number of responses per respondent | Average burden hours per response | Estimated total annual burden hours requested
Adolescents | 2,700 | 1 | 0.75 | 2,025
Adolescents with additional assessments | 750 | 1 | 2.5 | 1,875
Parents | 750 | 1 | 0.17 | 128
School Administrators | 80 | 1 | 0.33 | 26

The estimated annualized cost to respondents is $3,911 (Table 2). These costs were estimated for the 2009/2010 survey year only, not the entire duration of the project; annualized over the entire duration of the project, these costs would be reduced to $1,761. These estimates were calculated using 2008 Department of Labor figures for wages of principals in high schools (grades 9 and 10) and of average wage and salaried employees, and assuming an annual increase of 3.75%, 50-week contract, and 40-hour week.

Table 2—Annual Cost to Respondents—2009/2010 Survey Year Only
Type of respondents | Estimated total annual burden hours requested | Estimated annual earnings during survey | Average hourly earnings (with rounding) | Estimated cost during survey year
Adolescents | 2,025 | $0.00 | $0.00 | $0.00
Adolescents with additional assessments | 1,875 | 0.00 | 0.00 | 0.00
Parents | 128 | 42,270 | 21.93 | 2,807
School Administrators | 26 | 84,913 | 42.46 | 1,104

There are no Capital Costs to report. There are no Operating or Maintenance Costs to report.

No direct costs to the respondents themselves or to participating schools are anticipated.

Request for Comments: Written comments and/or suggestions from the public and affected agencies are invited on one or more of the following points: (1) Whether the proposed collection of information is necessary for the proper performance of the function of the agency, including whether the information will have practical utility; (2) The accuracy of the agency's estimate of the burden of the proposed collection of information, including the validity of the methodology and assumptions used; (3) Ways to minimize the burden of the collection of information on those who are to respond, including the use of appropriate automated, electronic, mechanical, or other technological collection techniques or other forms of information technology.

FOR FURTHER INFORMATION CONTACT: Written comments and/or suggestions regarding the item(s) contained in this notice, especially regarding the estimated public burden and associated response time, should be directed to the: OIRA_submission@omb.eop.gov or by fax to 202-395-6974. To request more information on the proposed project or to obtain a copy of the data collection plans and instruments, contact Dr. Ronald Iannotti, Prevention Research Branch, Division of Epidemiology, Statistics, and Prevention Research, Eunice Kennedy Shriver National Institute of Child Health and Human Development, Building 6100, 7B05, 9000 Rockville Pike, Bethesda, Maryland, 20892-7510, or call non-toll free number (301) 435-6951 or E-mail your request, including your address to ri25j@nih.gov.

Comments Due Date: Comments regarding this information collection are best assured of having their full effect if received within 30 days of the date of this publication.

Dated: September 28, 2009.
Sarah Glavin,
Project Clearance Liaison, NICHD, National Institutes of Health.

[FR Doc. E9-23782 Filed 10-1-09; 8:45 am]

BILLING CODE 4140-01-P